ENVIRONMENTAL PROTECTION AGENCY

40 CFR Part 300

[EPA-HQ-SFUND-1983-0002; FRL-9943-94-Region 7]

National Oil and Hazardous Substances Pollution Contingency Plan; National Priorities List: Partial Deletion of the Ellisville Superfund Site

AGENCY: Environmental Protection Agency (EPA).

ACTION: Proposed rule; notice of intent.

SUMMARY: The Environmental Protection Agency (EPA) Region 7 is issuing a Notice of Intent to Delete the Callahan property, Operable Unit 3 (OU3) (Parcel ID 22U220242) of the Ellisville Superfund Site (Site) located at 210 Strecker Road in Wildwood, Missouri (E½, NW¼, SE¼, S31, T45N, R04E), from the National Priorities List (NPL) and requests public comments on this proposed action. The NPL, promulgated pursuant to section 105 of the Comprehensive Environmental Response, Compensation, and Liability Act (CERCLA) of 1980, as amended, is an appendix of the National Oil and Hazardous Substances Pollution Contingency Plan (NCP). The EPA and the State of Missouri, through the Missouri Department of Natural Resources (MDNR), have determined that all appropriate response actions at the Callahan property, OU3, under CERCLA, have been completed. However, this deletion does not preclude future actions under Superfund.

This partial deletion pertains to all media (soil and groundwater) of the Callahan property, OU3 of the Ellisville Superfund site. The Ellisville Superfund Bliss property, Operable Unit 2, and the Rosalie property, Operable Unit 1, will remain on the NPL and are not being considered for deletion as part of this action.

DATES: Comments must be received on or before April 18, 2016.

ADDRESSES: Submit your comments, identified by Docket ID no. EPA-HQ-SFUND-1983-0002, to the Federal eRulemaking Portal: http://www.regulations.gov. Follow the on-line instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

Publicly available docket materials are available either electronically in http://www.regulations.gov or in hard copy at the site information repositories. The locations and viewing hours of the site information repositories are:

The EPA Region 7, 11201 Renner Boulevard, Lenexa, KS open from 8 a.m. to 4 p.m. and the Daniel Boone Branch Library, 300 Clarkson Road, Ellisville, MO open from 9 a.m. to 9 p.m. Monday through Thursday, 9 a.m. to 5 p.m. Friday and Saturday, and 1 p.m. to 5 p.m. on Sunday.

FOR FURTHER INFORMATION CONTACT: Laura Price, Remedial Project Manager, U.S. Environmental Protection Agency, Region 7, 11201 Renner Boulevard, Lenexa, Kansas 66219, email: price.laura@epa.gov and phone number: 913-551-7130.

SUPPLEMENTARY INFORMATION: Throughout this document “we,” “us,” or “our” refer to EPA. This section provides additional information by addressing the following:

I. Introduction

II. NPL Deletion Criteria

III. Deletion Procedures

IV. Basis for Intended Partial Site Deletion

I. Introduction

EPA Region 7 announces its intent to delete the Callahan property, OU3 of the Ellisville Superfund Site, from the National Priorities List (NPL) and requests public comment on this proposed action. The NPL constitutes appendix B of 40 CFR 300, which is the National Oil and Hazardous Substances Pollution Contingency Plan (NCP), which EPA promulgated pursuant to section 105 of the Comprehensive Environmental Response, Compensation and Liability Act (CERCLA) of 1980, as amended. EPA maintains the NPL as those sites that appear to present a significant risk to public health, welfare, or the environment. Sites on the NPL may be the subject of remedial actions financed by the Hazardous Substance Superfund (Fund). This partial deletion of the Callahan property, OU3, is proposed in accordance with 40 CFR 300.425(e) and is consistent with the Notice of Policy Change: Partial Deletion of Sites Listed on the National Priorities List. 60 FR 55466 (November 1, 1995). As described in 300.425(e)(3) of the NCP, a portion of a site deleted from the NPL remains eligible for Fund-financed remedial action if future conditions warrant such actions.

EPA will accept comments on the proposal to partially delete this site for thirty (30) days after publication of this document in the Federal Register.

Section II of this document explains the criteria for deleting sites from the NPL. Section III discusses procedures that EPA is using for this action. Section IV discusses the Callahan property, OU3 of the Ellisville Superfund Site and demonstrates how it meets the deletion criteria.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the State, whether any of the following criteria have been met:

i. Responsible parties or other persons have implemented all appropriate response actions required;

ii. all appropriate Fund-financed response under CERCLA has been implemented, and no further response action by responsible parties is appropriate; or

iii. the remedial investigation has shown that the release poses no significant threat to public health or the environment and, therefore, the taking of remedial measures is not appropriate.

III. Deletion Procedures

The following procedures apply to deletion of Callahan property, OU3 of the Ellisville Site:

(1) EPA consulted with the State before developing this Notice of Intent for Partial Deletion.

(2) EPA has provided the state 30 working days for review of this notice prior to publication of it today.

(3) In accordance with the criteria discussed above, EPA in consultation with the state, has determined that no further response is appropriate.

(4) The State of Missouri, through the Missouri Department of Natural Resources, has concurred with the deletion of the Callahan Subsite property, OU3 of the Ellisville Superfund Site, from the NPL.

(5) Concurrently, with the publication of this Notice of Intent for Partial Deletion in the Federal Register, a notice is being published in a major local newspaper, Eureka-Wildwood Patch. The newspaper announces the 30-day public comment period concerning the Notice of Intent for Partial Deletion of the Site from the NPL.

(6) The EPA placed copies of documents supporting the proposed partial deletion in the deletion docket and made these items available for public inspection and copying at the Site information repositories identified above.

If comments are received within the 30-day comment period on this document, EPA will evaluate and respond accordingly to the comments before making a final decision to delete the Callahan property, OU3. If necessary, EPA will prepare a Responsiveness Summary to address any significant public comments received. After the public comment period, if EPA determines, in consultation with the State, it is still appropriate to delete the Callahan property, OU3 of the Ellisville Superfund Site, the Regional Administrator will publish a final Notice of Partial Deletion in the Federal Register. Public notices, public submissions and copies of the Responsiveness Summary, if prepared, will be made available to interested parties and included in the site information repositories listed above.

Deletion of a portion of a site from the NPL does not itself create, alter, or revoke any individual's rights or obligations. Deletion of a portion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Partial Site Deletion

The following information provides EPA's rationale for deleting the Callahan property, OU3 of the Ellisville Superfund Site from the NPL:

Site Background and History

Site Location

The Ellisville Superfund Site (Site) (EPA ID MOD980633010) is located in St. Louis County, approximately 20 miles from downtown St. Louis, Missouri. The Site is comprised of three non-contiguous operable units the Bliss property, OU2 (11.6 acres), the Callahan property, OU3 (8 acres), and the Rosalie property, OU1 (85 acres). The population of St. Louis County is 998,954 people, according to the 2010 census. The counties that surround St. Louis County are Saint Charles, Franklin, and Jefferson Counties. The area immediately around the Site is comprised of single-family detached residential dwellings. The Site is located in the watershed of Caulks Creek, a tributary of Bonhomme Creek that enters the Missouri river. The geology of the Site is underlain by unconsolidated deposits that rest on the Mississippian-aged Osagean Series limestone bedrock with solution-enlarged joints. Below the Mississippian-aged Osagean Series limestone lies the Maquoketa Formation that provides a relatively impermeable shale aquitard.

National Priorities List Designation

The Site was proposed for inclusion on the NPL on December 30, 1982 (47 FR 58476). It was listed for final inclusion on the NPL September 8, 1983 (48 FR 40658-40673).

Operable Units (OUs) Descriptions Not Proposed for Deletion

The Rosalie property, OU1 is an 85-acre tract of land in which four acres were contaminated. The Rosalie property, OU1 was discovered in 1980 when a sewer worker encountered buried drums during an excavation. Drummed liquid and solid wastes were disposed of in and near Caulks Creeks. The Rosalie property OU1 cleanup remedy included the excavation of drums from four locations and the removal of contaminated soil from two of these locations. The drums and contaminated soils were disposed of at an EPA approved hazardous waste facility. Over 200 drums including one and five gallon buckets of chemical wastes were removed from the property. Of the 200 drums, only 45 contained suspected hazardous waste materials. Confirmation soil samples were collected to verify the effectiveness of the cleanup and the excavated areas were backfilled with clean soil and reseeded.

The Bliss property, OU2 is located at 149 Strecker Road in the city of Wildwood, Missouri. Features on the Bliss property include a residential house, one mobile home, an enclosed horse arena with associated buildings and stables. The MDNR began investigating the site in 1980, when an informant reported illegal dumping of hazardous waste at the property. Russell Bliss owned and operated the Bliss Waste Oil Company during the 1960s and 1970s at the site. The business engaged in the transportation and disposal of waste oil products, industrial wastes, and chemical wastes. These wastes were disposed of in pits, buried in drums, and liquid wastes were dumped on the surface of the ground. Cleanup activities began February 6, 1996, and the permit for the incinerator at Times Beach was issued March 15, 1996, for the treatment of dioxin contaminated waste. Dioxin contaminated soil was removed according to the approved health-based action levels of 1 ppb at the surface and 10 ppb at a depth of 12 inches, except fill areas where the action level was 1 ppb at all depths. In the creek, the dioxin action levels were 1 ppb to 2 feet, depths greater than 2 feet were cleaned up to 10 ppb. Air monitoring and temporary containment structures were erected to ensure and prevent airborne contaminants from migrating off-site. At the end of the cleanup on the Bliss property OU2, 480 drums were removed and 252 soil confirmation samples were collected. A total of 24,478 tons of dioxin contaminated soil were excavated, removed, and incinerated at the Times Beach incinerator. Another 581 tons of non-dioxin contaminated soil were also excavated and removed to either LWD, Inc. landfill or Rollins Environmental Services landfill both Resource Conservation and Recovery Act (RCRA) permitted landfills. Groundwater investigations at the Bliss property, OU2 are ongoing.

Operational Unit Description Proposed for Deletion and Historic Activities

The Callahan property, OU3, is located at 210 Strecker Road in the city of Wildwood, Missouri. Features on the Callahan property include a small pond and barn. The small pond receives drainage from the northern portion of the parcel and is located above the former drum burial area (fill area). The terrain at the Callahan property slopes downward to the south from Strecker Road forming two drainage ways (below the fill area) that intersect at an intermittent Caulks Creek tributary near the southernmost property boundary.

In August 1980, the MDNR received an eyewitness report that drums were being buried near a barn on the Callahan property. A follow up investigation revealed a disposal area of approximately 150 feet × 150 feet. During additional investigations, several drums were unearthed and sampled. Sample results determined that the drums contained paint-related wastes and solvents. The MDNR subsequently requested assistance from the EPA to address the buried drums, and a removal action (RA) was immediately initiated. Under section 104 of CERCLA, the RA took place during December 1981 to February 1982, when 1,205 drums were removed from the disposal area. Of these 1,205 drums, 613 contained hazardous waste, which were over packed and staged in two areas on the site for off-site disposal. Approximately 500 cubic yards of excavated soil was returned to the excavated drum burial area as backfill (Tetra Tech EM Inc. 2005).

Remedial Investigation and Feasibility Study (RI/FS)

The Remedial Investigation field activities on the Callahan property, OU3 occurred in 1983 in which seven soil samples (ELL-21—ELL-25, ELL-31, ELL-32) and two surface water samples (ELL-26 and ELL-27) were collected. Soil results exceed the EPAs current residential RSLs at ELL-31 and ELL-32 for methylene chloride and oxirane. Surface water results were non-detect for contaminants of concern.

The Feasibility Study identified remedial action objectives that were to control the erosion and stabilize the fill area where drums had been excavated. In addition, the plastic cover, blocks, barbed-wire fence, the drum storage areas, and gravel from the previous response action were also to be removed and properly disposed.

Selected Remedy

On July 10, 1985, the Record of Decision for the Ellisville site was signed. The remedy selected for the Callahan property, OU3 was to control erosion and slippage of the fill area, remove the plastic cover, blocks, barbed-wire fence, drum storage areas, and gravel and properly dispose of them. The shallow groundwater beneath the Callahan property is a non-potable water bearing zone due to insufficient yield. There is no reasonably anticipated use of site groundwater and no available groundwater exposure route for receptors. The ROD did thus not require any groundwater response.

In December 1999, James Properties hired Brucker Engineering to conduct a Phase II Environmental Assessment on the Callahan property. During that investigation, five composite samples were collected and analyzed for dioxin, polychlorinated biphenyls (PCBs), pesticides, and metals (arsenic, barium, cadmium, chromium, lead, mercury, selenium, and silver). All sample results were non-detect for contaminants of concern. A magnetic survey was also conducted during the investigation that showed no evidence of buried metal drums. A Site Removal Evaluation was conducted by the MDNR on January 31, 2005, to determine if any residual soil contamination remained at the Callahan property at concentrations that would warrant further response. A total of 29 soil and five sediment samples were collected during January 31, 2005 through February 2, 2005. All samples were analyzed for base neutral/acid extractables, pesticides/herbicides, PCBs, metals (arsenic, barium, cadmium, chromium, lead, mercury, selenium, and silver), and dioxin. Results exceeded the EPA's current residential Regional Screening Levels (RSL's) for soil at monitoring location EU-6 for ethylbenzene, tetrachloroethene, and 1,2,4-trimethylbenzene.

The EPA conducted an expanded site review in September 2011 on the Callahan property. A total of 34 soil samples were collected. Dioxin, metals (arsenic, barium, cadmium, chromium, lead, mercury, selenium, and silver), PCBs, SVOCs, and VOCs were analyzed on one or more samples. Results exceeded the EPA's current Residential RSL's for soil at soil borings SB-25 (lead), SB-26 (bis-(2-ethylhexyl)phthalate), SB-27 (lead), SB-44 (benzo(a)anthracene, benzo(b)fluoranthene, ethylbenzene), and ditch grab #1 (arochlor 1248). Shallow groundwater was also investigated with no detections of contaminants of concern being identified.

Time Critical Removal Action (RA)

Based on the 2011 expanded site review, on September 13, 2012, the EPA issued an Action Memorandum authorizing funding for a Time Critical Removal Action at the Callahan property, OU3. Specific actions were undertaken at the site to eliminate the threats to human health and the environment from contamination found remaining in place. These actions included the excavation, transportation, and disposal of VOCs, polycyclic aromatic hydrocarbons, and lead-contaminated waste/soils from the Site to a permitted disposal facility and restoration of the Site. The factors from the NCP that justified a removal action at the Site detailed in the Action memorandum are outlined below.

1. 300.415(b)(2)(i)—Actual or potential exposure to nearby human populations, animals or the food chain from hazardous substances, or pollutants, or contaminants.

• The Site is located within 50 feet of a residential home that is located in a residential neighborhood. If the soils were to be brought to the surface, perhaps during a future housing development, the chances of this waste being spread across an area could expose current and future residents to these contaminants.

2. 300.415(b)(2)(ii)—Actual or potential contamination of drinking water supplies or sensitive ecosystems;

• The EPA placed a monitoring well in the area where the buried waste was located. Groundwater results from the monitoring well were non-detect for contaminants of concern. However, due to the karst topography, at the site, one monitoring well would not be sufficient to identify if contamination had or had not migrated to the groundwater. If the contamination had not migrated to the groundwater, given time, contaminants could have leached and migrated to groundwater. Given that the bedrock is karst, it was in the EPA's best interest to prevent contamination from entering the groundwater system.

3. 300.415(b)(2)(v)—Weather conditions that may cause hazardous substances or pollutants or contaminants to migrate or be released;

• Contaminated soils at the Callahan property had the potential to erode/leach from its current buried location. The contaminated soil was buried between a pond and the top of a drainage way that emptied into Caulks Creek. Caulks Creek is a major creek that runs through multiple sub-divisions in the area. It was foreseeable, since the waste was buried at shallow depths, that heavy rains could cause the hillside to become unstable releasing the buried waste into the drainage way.

4. 300.415(b)(2)(vii)—The lack of other appropriate Federal or state response mechanisms to respond to the release.

• No other Federal or state authorities existed that would be able to provide response actions at the Site.

The RA was conducted during November 27, 2012, through December 6, 2012. Contaminated soil was removed by an excavator and then placed directly into dump trucks for disposal at the Milam Landfill in East St. Louis, Illinois. During the removal action, a PID photoionization detector (PID) was used for real-time air monitoring to ensure that VOCs generated during the excavation activities were below acceptable criteria levels within the immediate area surrounding the excavation pit, as well as along the site perimeter adjacent to residential properties bordering the site. A personal air sampler was also used to measure lead concentrations in the breathing zone of workers during excavation activities. Elevated levels of lead in the breathing zone were not observed during the removal action.

Excavation activities proceeded first by visual observation, once visual indicators were no longer observed, the soil was then screened using a PID for VOCs and an x-ray fluorescence (XRF) spectrometer for metals (lead in particular). At the completion of the excavation, seven confirmation soil samples and one stockpile confirmation sample (CA-SW-01, CA-EW-01, CA-EW-02, CA-WW-01, CA-WW-02, CA-NW-01, CA-NW-02, and CA-OVRSTK-01) were collected for laboratory analysis. All confirmation samples were analyzed for VOCs, SVOCs, metals (arsenic, barium, cadmium, chromium, lead, mercury, selenium, and silver), and PCBs. Analytical results for all confirmation samples were compared to the current EPA RSLs. All results were below RSLs except those for arsenic. However, arsenic results were below the average background concentration of 10.561 ppm for St. Louis County soils (USGS 2012), and no additional cleanup was required.

The excavation of contaminated soil on the Callahan property, OU3 was completed on December 6, 2012. A total of 2,056 tons of contaminated soil and debris, including drum fragments and metal pieces, were excavated and transported to the Milam Landfill for proper disposal as non-hazardous “special waste.” The landfill accepted the waste based on disposal characterization sampling results (from November 2012), which had indicated that contaminated soil at the site did not contain hazardous constituents above acceptable levels or leach constituents above corresponding regulatory toxicity characteristic leaching procedure limits. The final excavated area was approximately 21 feet long on the south wall, 75 feet on the east wall, 70 feet on the north wall, and 82 feet on the west wall. The depth of the excavated area ranged from 5 to 15 feet.

Following completion of the soil excavation, the excavation was backfilled and the site restored. One grab sample of off-site backfill material (CAL-BF-1) and one grab sample of off-site topsoil (CA-TPSL-01) were collected to confirm that the backfill material and topsoil did not contain contaminants above levels of concern. The samples were analyzed for VOCs, SVOCs, and metals (arsenic, barium, cadmium, chromium, lead, mercury, selenium, and silver). Laboratory results demonstrated that the backfill and topsoil samples did not contain any contaminants above current EPA RSLs.

Following completion of backfilling, the site was restored in accordance with verbal agreements between the EPA and the property owner. The excavated area was completed with a swale that included rip-rap to serve as a drainage route, while the remaining portion of the site property was restored by hydro-seeding. The swale was approximately 8 feet wide by 150 feet long, and the rock used for rip-rap was 6 to 8 inch Gabien stone. Following completion of site restoration activities, the removal action was considered complete.

Cleanup Levels

The cleanup levels for the Callahan RA were the current EPAs RSLs. The process used during the RA was to excavate all visibly stained and/or odorous soils then field screen the excavation walls using an XRF and a PID. Once completed, confirmation soil samples were collected and submitted for analysis to ensure that all contaminants above RSLs had been excavated and removed from the site. Once the confirmation analytical results confirmed that levels were below RSLs, the excavated area was backfilled with clean material.

Community Involvement

The EPA has worked extensively with the Wildwood community through a variety of communication vehicles including but not limited to local speaking engagements, city council meetings, conducting public meetings, coverage on radio, television, and in local and national newspapers. The EPA also prepared letters and fact sheets that were distributed to mailing list recipients as well as hand-distributed to residences including information on the EPA Web site.

The EPA has been performing outreach to Wildwood citizens, elected officials, the media, and others since becoming involved in the project in 1980 in an effort to convey information about the hazards and activities of the Site. The EPA has participated in numerous formal and informal meetings to explain the EPA's role and commitment in Wildwood to convey information about the Superfund process and to provide general information about the site and its contamination.

Determination That the Criteria for Deletion Have Been Met

In accordance with 40 CFR 300.425(e), Region 7 of the EPA finds that the Callahan property, OU3 of the Ellisville Superfund site (the subject of this deletion) meets the substantive criteria for partial NPL deletions. Activities at the Callahan property were completed consistent with the Action Memo and the Statement of Work, and the EPA policies and procedures. The EPA analytical methods were used for all investigations, including confirmation sampling and various levels of data validation as appropriate. The QA/QC program was rigorous and in conformance with the EPA standards. The EPA has determined that all analytical results were accurate to the degree necessary to assure satisfactory execution of the investigation and removal activities. All confirmation analytical results for soil samples were compared to the current EPA RSLs. All results were below the EPA RSLs except those for arsenic; however, all arsenic results were below the average concentration of 10.561 ppm for St. Louis County soils (USGS 2012).

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(c)(2); 42 U.S.C. 9601-9657; E.O. 12777, 56 FR 54757, 3 CFR, 1991 Comp., p.351; E.O. 12580, 52 FR 2923, 3 CFR, 1987 Comp., p.193.

Dated: February 26, 2016.
Mark Hague,
Regional Administrator, Region 7.

[FR Doc. 2016-06221 Filed 3-17-16; 8:45 am]

BILLING CODE 6560-50-P